NUCLEAR REGULATORY COMMISSION

Notice of Issuance of Director's Decision Under 10 CFR 2.206

Notice is hereby given that the Director, Office of Nuclear Reactor Regulation, has issued a Director's Decision with regard to a petition dated March 11, 2002, and supplements dated March 21, 22, and 27, 2002 (the Petition), submitted by Mr. David A. Lochbaum, a Nuclear Safety Engineer in the Washington, DC Office of the Union of Concerned Scientists (UCS), and the co-petitioners identified in the petition supplements dated March 21 and March 22, 2002 (the Petitioners). The Petitioners have requested that the U.S. Nuclear Regulatory Commission (NRC or the Commission) take action with regard to the nuclear power facilities listed in Attachment 1 to the Petition (multiple nuclear power facilities). The Petitioners request that the NRC immediately issue Orders to the owners of all operating nuclear power plants to take measures that will reduce the risk from sabotage of irradiated fuel. Specifically, those measures are:

(1) The NRC should “impose a 72-hour limit for operation when the number of operable onsite alternating current power sources (i.e., emergency diesel generators) is one less than the number in the Technical Specification limiting condition for operation. This 72-hour limit would be applicable when the nuclear plant is in any mode of operation other than hot shutdown, cold shutdown, refueling, or defueled.” Oconee Nuclear Station does not rely on emergency diesel generators, but “equivalent protection for its emergency power supply” should be provided. The NRC should also “cease and desist issuing NOEDs [Notices of Enforcement Discretion] that allow nuclear reactors to operate for longer periods of time with broken emergency diesel generators.” This requested action would apply to the facilities listed in Attachment 1 to the Petition.

(2) The NRC should “impose a minimum 24-hour time-to-boil for the spent fuel pool water. This limit would be applicable at all times.” This requested action would apply to the facilities listed in Attachment 1 to the Petition.

The Petition also requested that the NRC hold a public meeting to precede “the Petition Review Board (PRB) non-public meeting regarding this petition” and assign “someone other than the Director of NRR [Office of Nuclear Reactor Regulation] to be responsible for our petition. The Deputy Executive Director for Reactor Programs or the Deputy Director of NRR would be acceptable to UCS.”

As the basis for the Petition, the Petitioners cite the need to reduce the risk from sabotage of irradiated fuel.

On March 26, 2002, in lieu of a public meeting, the Petitioners accepted and participated in a telephone conference (teleconference) with the NRC's PRB to discuss the Petition. The transcript of the teleconference was considered as a supplement to the Petition. After the teleconference, the PRB discussed the Petition. The PRB considered the contributions of the Petitioners to the teleconference in deciding on the requests for immediate action and in setting the schedule for the review of the Petition. The PRB concluded that the Petition satisfied the criteria for review under title 10 of the Code of Federal Regulations (10 CFR) Subsection 2.206.

By letter dated May 8, 2002, the NRC staff acknowledged receiving the Petition, informed the Petitioners that the Petition met the requirements for review under 10 CFR 2.206, and the Petition had been referred to the Director of NRR for action and would be acted upon within a reasonable time. The petitioners were also informed in that letter that the NRC staff declined to grant the Petitioners' request for immediate action.

The NRC sent a copy of the proposed Director's Decision to the Petitioners for comment by letter dated September 4, 2002. The Petitioners responded with comments by letter dated September 23, 2002. The Petitioners' comments and the NRC staff responses to the comments are addressed in Enclosure No. 2 and No. 3 to the November 15, 2002, letter to Mr. David A. Lochbaum, Union of Concerned Scientists.

The Director, NRR, concluded that the information contained in the Petition does not warrant NRC staff action to: “Impose a 72-hour limit for operation when the number of operable onsite alternating current power sources (i.e., emergency diesel generators) is one less than the number in the Technical Specification limiting condition for operation” during plant operation. In addition, the Director, NRR, concluded that the information contained in the Petition does not warrant NRC staff action to “cease and desist issuing NOEDs that allow nuclear reactors to operate for longer periods of time with broken emergency diesel generators.” These requests are denied.

With regard to the Petitioners' second request, that the NRC “impose a minimum 24-hour time-to-boil for the spent fuel pool water. This limit would be applicable at all times,” the Director, NRR, has concluded that this request is partially granted by staff actions already taken. However, for the reasons discussed in the Director's Decision, the NRC staff concludes that the actions specifically requested by the Petitioners are not necessary. The reasons for these decisions are explained in the Director's Decision pursuant to 10 CFR 2.206 (DD-02-07), the complete text of which is available in the Agencywide Documents Access and Management System (ADAMS) for inspection in the Commission's Public Document Room (PDR) located at One White Flint North, 11555 Rockville Pike (first floor), Rockville, Maryland, and electronically accessible in ADAMS through the NRC Public Electronic Reading Room at http://www.nrc.gov/reading-rm.html (ADAMS Accession No. ML022800647). Persons who do not have access to ADAMS or who encounter problems in accessing documents located in ADAMS should contact the NRC PDR reference staff by telephone at 1-800-397-4209 or 301-415-4737, or by email to pdr@nrc.gov.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 15th day of November, 2002.
For the U.S. Nuclear Regulatory Commission.
Samuel J. Collins,
Director, Office of Nuclear Reactor Regulation.

[FR Doc. 02-29873 Filed 11-21-02; 8:45 am]

BILLING CODE 7590-01-P